DEPARTMENT OF TRANSPORTATION

National Highway Traffic Safety Administration

[U.S. DOT Docket No. NHTSA-2007-27523]

Reports, Forms, and Recordkeeping Requirements

AGENCY: National Highway Traffic Safety Administration (NHTSA), Department of Transportation (DOT).

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before May 14, 2007.

ADDRESSES: Direct all written comments to U.S. Department of Transportation Dockets, 400 Seventh Street SW., 401, Washington, DC 20590. Docket No. NHTSA-2007-27523.

FOR FURTHER INFORMATION CONTACT: Ms. Laurie Flaherty, Program Analyst, Office of Emergency Medical Services, National Highway Traffic Safety Administration, 400 Seventh Street SW, NTI-140, Room 5130, Washington, DC 20590. (202) 366-2705 or via e-mail at laurie.flaherty@dot.gov.

SUPPLEMENTARY INFORMATION: Under the Paperwork Reduction Act of 1995, before an agency submits a proposed collection of information to OMB for approval, it must publish a document in the Federal Register providing a 60 day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submissions of responses. In compliance with these requirements, NHTSA asks public comment on the following proposed collection of information:

Request for Information, National E9-1-1 Implementation Coordination Office (National 9-1-1 Office)

Type of Request—New information collection requirement.

OMB Clearance Number—N/A.

FORM Number—This collection of information uses no standard forms.

Requested Expiration Date of Approval—Three years from date of approval.

Summary of the Collection of Information—NHTSA, in cooperation with the National Telecommunications and Information Administration (NTIA), (Department of Commerce), is proposing to issue annual RFIs, seeking comments from all sources (public, private, governmental, academic, professional, public interest groups, and other interested parties) on operational priorities for the National Enhanced 9-1-1 Implementation Coordination Office (National 9-1-1 Office). The National 9-1-1 Office was established by NHTSA and NTIA as directed by the Ensuring Needed Help Arrives Near Callers Employing 911 Act of 2004 (ENHANCE 911 Act of 2004), 47 U.S.C. 942.

The ENHANCE 911 Act of 2004 authorized two fundamental changes in Federal 9-1-1 responsibilities:

• Formal program and policy coordination across Federal agencies.

• Federal support to Public Safety Answering Points and related State and local agencies for E9-1-1 deployment and operations.

Congress stated the importance of enhanced 9-1-1 service in the Act, finding that “enhanced 911 is a high national priority and it requires Federal leadership, working in cooperation with State and local governments and with the numerous organizations dedicated to delivering emergency communications services.” NHTSA and NTIA intend to use the National 9-1-1 Office to work cooperatively with public and private 9-1-1 stakeholders to establish a vision for the future of 9-1-1 services in the Nation. The RFIs will solicit comments on the priorities and strategies of the National 9-1-1 Office to accomplish its functions, goals and vision. In addition, the RFIs will obtain expressions of interest in participating as partners and will request responses to specific questions, including critical 9-1-1 issues, benefits to stakeholders, available data and methods of collection, etc. These RFIs will NOT seek comment on the grant program authorized to be administered by the National 9-1-1 Office. The RFIs will not include requests for proposals or invitations for bids.

Description of the Need for the Information and Proposed Use of the Information—The 9-1-1 constituency is a diverse group of entities, including:

Government Agencies:

• Local, State and Federal policy, regulation, and funding agencies

• Local and State emergency communications agencies

• Local, State and Federal emergency response agencies

Non-Governmental Organizations:

• Professional and industry associations

• Standards Development Organizations

• Citizen and special interest advocacy organizations

• Private emergency response and recovery organizations

• Research and academic organizations

IT/Telecommunications Service Providers:

• “Traditional” telecommunication service providers

• “Public Safety/emergency” service providers

• “Other” IT/telecommunication application service providers

• IP-network access infrastructure/service providers

IT/Telecommunications Equipment Providers:

• Equipment and support service suppliers to “traditional” telecommunication companies.

• Equipment and support service suppliers to IT network providers.

• “Public Safety/emergency services network” equipment providers.

• Personal communication device providers

Third Party Emergency Call Centers:

• Third party service providers such as telematics, poison control, medical alert, central alarm monitoring, relay services, and N9-1-1 services

In order to collect information needed to develop and implement effective strategies that meet the National 9-1-1 Office's mandate to provide leadership, coordination, guidance and direction to the enhancement of the Nation's 9-1-1 services, NHTSA, in cooperation with NTIA, must utilize efficient and effective means of eliciting the input and opinions of its constituency groups. If approved, the proposed annual RFIs would assist the National 9-1-1 Office in addressing the myriad of issues posed by implementing new technologies in 9-1-1 services in a systematic, prioritized fashion, with active involvement of its constituency in this process. The results of the proposed annual RFIs would be used to: (1) Identify areas to target programs and activities to achieve the greatest benefit; (2) develop programs and initiatives aimed at cooperative efforts to Enhance 9-1-1 services nationwide; and (3) to provide informational support to States, regions, and localities in their own efforts to Enhance 9-1-1 services.

Description of the Likely Respondents (Including Estimated Number, and Proposed Frequency of Response to the Collection of Information)— Under this proposed effort, the National 9-1-1 Office would issue annual RFIs, seeking responses to specific questions and soliciting comments on the priorities and strategies used by the National 9-1-1 Office to accomplish its agreed functions, goals and vision, to obtain expressions of interest in participating as partners. The various entities included in the constituency of the National 9-1-1 Office would be notified of the issuance of each RFI. Likely respondents would include companies, agencies and organizations from all of the constituency groups listed above, particularly local and State emergency communications agencies, professional and industry associations, “traditional” telecommunication service providers, “public safety/emergency” service providers and special interest advocacy organizations. The total number of respondents is estimated at 30 to 40.

Estimate of the Total Annual Reporting and Recordkeeping Burden Resulting From the Collection of Information—NHTSA estimates that responses to the questions included in the proposed RFIs would require an average of one hour to complete, for a total of 40 to 50 hours. The respondents would not incur any reporting costs from the information collection. The respondents also would not incur any recordkeeping burden or recordkeeping costs from the information collection.

(Authority: 44 U.S.C. 3506(c) (2) (A); 47 U.S.C. 942)

Issued on: March 8, 2007.
Marilena Amoni,
Associate Administrator, Research and Program Development.

[FR Doc. E7-4584 Filed 3-13-07; 8:45 am]

BILLING CODE 4910-59-P